DEPARTMENT OF TRANSPORTATION

Federal Aviation Administration

Public Notice for Waiver of Aeronautical Land-Use Assurance, Detroit City Airport, Detroit, MI

AGENCY: Federal Aviation Administration, DOT.

ACTION: Notice of intent of waiver with respect to land.

SUMMARY: The Federal Aviation Administration (FAA) is considering a proposal to change a portion of airport land from aeronautical use to non-aeronautical use and to authorize the lease of the airport property. The proposal consists of one parcel of land totaling approximately 23.00 acres for a truck parking and storage facility. Current use and present condition is vacant grassland. There are no impacts to the airport by allowing the airport to lease this property. The land was acquired under FAA Project Nos. AIP-3-26-0027-0888 and AIP-3-26-0027-1089. Approval does not constitute a commitment by the FAA to financially assist in the lease of the subject airport property nor a determination that all measures covered by the program are eligible for Airport Improvement Program funding from the FAA. The disposition of proceeds from the lease of the airport property will be in accordance with the FAA's Policy and Procedures Concerning the Use of Airport Revenue, published in the Federal Register on February 16, 1999. This proposal is for approximately 23.00 acres in total.

In accordance with section 47107(h) of Title 49, United States Code, this notice is required to be published in the Federal Register 30 days before modifying the land-use assurance that requires the property to be used for an aeronautical purpose. The proposed land will be used for the development of a truck parking and storage facility, which will provide additional jobs in an economically challenged area and enhance the aesthetics of the surrounding community.

The proceeds from the lease of the land will be used for airport improvements and operational expenses at Detroit City Airport.

DATES: Comments must be received on or before May 18, 2001.

FOR FURTHER INFORMATION CONTACT: Ms. Arlene B. Draper, Federal Aviation Administration, Great Lakes Region, Detroit Airports District Office, DET ADO-603, Willow Run Airport, East, 8820 Beck Road, Belleville, Michigan 48111, (734) 487-7282. Documents reflecting this FAA action may be reviewed at this same location or at Detroit City Airport, Detroit, Michigan.

SUPPLEMENTARY INFORMATION: Following is a legal description of the property located in the City of Detroit, Wayne County, Michigan, and described as follows:

A parcel of land in the City of Detroit, Wayne County, Michigan, being part of Lots 2 through 7, both inclusive of Engel's Subdivision of a portion of Fractional Section 15, TIS, R12E, City of Detroit, Wayne County, Michigan, recorded in Liber 11, Page 73 of Plats, Wayne County Records, and vacated Molena Avenue, 30 feet wide, adjoining said lots. Also being a part of Lots 176 through 197, both inclusive of Bolton Subdivision of Lots 11, 12, 14 and 15 of Leander Rivard Farm, City of Detroit, part of the Fractional Section 15, TIS, R12E, Wayne County, Michigan, as recorded in Liber 37, Page 36 of Plats, Wayne County Records; part of Lots 13 of Leander Rivard Farm, City of Detroit, part of the Fractional Section 15, TIS, R12E, Wayne County, Michigan, as recorded in the Liber 39, Page 29 of Plats, and more particularly described as follows:

Commencing at the intersection of the Northerly line of Engel's Subdivision (Liber 11, Page 73) and Westerly line of French Road (86 feet wide); thence S63°4′25″W 988.12 feet along the Northerly line of said Engel's Subdivision to the Point of Beginning.

Thence S26°04′30″E 507.99 feet;

Thence along the Northerly line of Modola Avenue (50 feet wide) S63°38′30″W 1747.08 feet;

Thence N26°10′30″W 353.48 feet;

Thence N63°44′05″E 219.53 feet;

Thence N63°31′20″E 294.13 feet;

Thence N25°50′21″E 324.63 feet;

Thence N63°43′15″E 1128.43 feet;

Thence S30°22′15″E 168.80 feet along the Easterly line of Lot 176 of said Bolton Subdivision and the Southerly extension thereof;

Thence M63°54′25″E 91.62 feet along the North line of said Engel's Subdivision to the point of beginning, containing 22.974 acres of land, more or less, subject to easements and restrictions of record, if any.

Issued in Belleville, Michigan, March 14, 2001.
Irene R. Porter,
Manager, Detroit Airports District Office, Great Lakes Region.

[FR Doc. 01-8194 Filed 4-17-01; 8:45 am]

BILLING CODE 4910-13-M